DEPARTMENT OF COMMERCE

Foreign-Trade Zones Board

[Order No. 1634]

Expansion of Foreign-Trade Zone 49, Newark, New Jersey, Area

Pursuant to its authority under the Foreign-Trade Zones Act of June 18, 1934, as amended (19 U.S.C. 81a-81u), the Foreign-Trade Zones Board (the Board) adopts the following Order:

Whereas, the Port Authority of New York and New Jersey, grantee of Foreign-Trade Zone 49, submitted an application to the Board for authority to expand its zone to include a site at the Heller Industrial Park (Site 11) in Edison, New Jersey, within the Newark/New York Customs and Border Protection port of entry (FTZ Docket 5-2009, filed 2/6/09);

Whereas, notice inviting public comment was given in the Federal Register (74 FR 7392-7393, 2/17/09) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to expand FTZ 49 is approved, subject to the FTZ Act and the Board's regulations, including Section 400.28, and to the Board's standard 2,000-acre activation limit for the overall general-purpose zone project, and further subject to a sunset provision that would terminate authority on July 31, 2014, for Site 11 if no activity has occurred under FTZ procedures before that date.

Signed at Washington, DC, this 16th day of July 2009.

Ronald K. Lorentzen,
Acting Assistant Secretary of Commerce for Import Administration, Alternate Chairman, Foreign-Trade Zones Board.
Attest:
Andrew McGilvray,
Executive Secretary.

[FR Doc. E9-18078 Filed 7-28-09; 8:45 am]

BILLING CODE 3510-DS-S